DEPARTMENT OF JUSTICE

Antitrust Division

Notice Pursuant to the National Cooperative Research and Production Act of 1993—Cooperative Research Group on Diesel Aftertreatment Accelerated Aging Cycles—Heavy-Duty

Notice is hereby given that, on February 2, 2009, pursuant to Section 6(a) of the National Cooperative Research and Production Act of 1993, 15 U.S.C. 4301 et seq. (“the Act”), Southwest Research Institute Cooperative Research Group on Diesel Aftertreatment Accelerated Aging Cycles—Heavy-Duty (“DAAAC-HD”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Doosan Infracore, Incheon, Republic of Korea; Isuzu Motors Limited, Kanagawa-ken, Japan; Lubrizol Corporation, Wickliffe, OH; MTtJ, Friedrichshafen, Germany; Navistar Inc., Melrose Park, IL; Scania, Sodertalje, Sweden; and Umicore, Catoosa, OK. The purpose and the nature of DAAAC-HD is to develop a methodology and procedures for accelerating heavy duty diesel aftertreatment systems aging for heavy-duty diesel engine applications, such as emission components and systems. The procedures to be developed will aim to dramatically shorten durability testing times. In addition, these procedures can be used by the industry to determine the most effective emissions systems for their heavy-duty diesel engine applications. It is anticipated that the central component of the accelerated aging procedure will be a cycle that would expose diesel aftertreatment systems to exhaust at an elevated temperature. In addition, such exhaust will have a chemical composition that would accelerate the aftertreatment system aging.

Membership in this research group remains open, and DAAAC-HD intends to file additional written notification disclosing all changes in membership or planned activities.

Patricia A. Brink,
Deputy Director of Operations, Antitrust Division.

[FR Doc. E9-4026 Filed 2-25-09; 8:45 am]

BILLING CODE 4410-11-M